DEPARTMENT OF COMMERCE

National Oceanic and Atmospheric Administration

[RTID 0648-XD311]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of the Outreach and Communications Advisory Panel (AP). The meeting will be held in Charleston, SC. See SUPPLEMENTARY INFORMATION for agenda.

DATES: The Outreach and Communications AP meeting will be held October 4, 2023, from 9 a.m. until 5 p.m. and October 5, 2023, from 9 a.m. until 3 p.m.

ADDRESSES:

Meeting address: The meeting will be held at the Town and Country Inn, 2008 Savannah Highway, Charleston, SC 29407; phone: (843) 571-1000. The meeting is open to the public and will also be available via webinar. Webinar registration, an online public comment form, and briefing book materials will be available two weeks prior to the meeting at: https://safmc.net/advisory-panel-meetings/.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Agenda items for the Outreach and Communications AP meeting include: updates from AP members on recent outreach and communication efforts and needs; update of the Council's Best Fishing Practices Program and new projects; an update on the Council's Citizen Science Program and projects; a review of the Council's draft Habitat Blueprint relative to outreach and communication needs; overview of plans by the Council to conduct port meetings for the mackerel fishery in 2024; and a review and discussion of the education and outreach component for Amendment 46 to the Snapper Grouper Fishery Management Plan addressing private recreational permitting for the fishery. AP members will also receive an update on the Council's website and social media, and review the Council's E-Newsletter. The AP will address other business as needed and provide recommendations for Council consideration.

Special Accommodations

These meetings are physically accessible to people with disabilities. Requests for auxiliary aids should be directed to the Council office (see ADDRESSES) 10 days prior to the meeting.

Note: The times and sequence specified in this agenda are subject to change.

Authority: 16 U.S.C. 1801 et seq.

Dated: September 12, 2023.
Diane M. DeJames-Daly,
Acting Deputy Director, Office of Sustainable Fisheries, National Marine Fisheries Service.

[FR Doc. 2023-20031 Filed 9-14-23; 8:45 am]

BILLING CODE 3510-22-P